DEPARTMENT OF ENERGY

Federal Energy Regulatory Commission

[Docket Nos. CP17-117-000; CP17-118-000]

Notice of Revised Schedule for Environmental Review of the Driftwood LNG LLC and Driftwood Pipeline LLC Driftwood LNG Project

This notice identifies the Federal Energy Regulatory Commission (FERC) staff's revised schedule for the completion of the environmental impact statement (EIS) for Driftwood LNG LLC's liquefied natural gas facility and for Driftwood Pipeline LLC's pipeline facilities, collectively referred to as the Driftwood LNG Project. The first notice of schedule, issued on December 22, 2017, identified October 12, 2018 as the final EIS issuance date. Staff has revised the schedule for issuance of the final EIS, based on an issuance of the draft EIS in September 2018. The forecasted schedule for both the draft and final EIS is based upon Driftwood LNG LLC and Driftwood Pipeline LLC providing complete and timely responses to any future data requests. In addition, the schedule assumes that the cooperating agencies will provide input on their areas of responsibility on a timely basis.

Schedule for Environmental Review

Issuance of Notice of Availability of the final EIS—January 18, 2019

90-day Federal Authorization Decision Deadline—April 18, 2019

If a schedule change becomes necessary, an additional notice will be provided so that the relevant agencies are kept informed of the project's progress.

Additional Information

In order to receive notification of the issuance of the EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP17-117 or CP17-118), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 31, 2018.
Nathaniel J. Davis, Sr.,
Deputy Secretary.

[FR Doc. 2018-19395 Filed 9-6-18; 8:45 am]

BILLING CODE 6717-01-P